POSTAL SERVICE

Transfer of Inbound Surface Parcel Post (at UPU Rates) to Competitive Product List

AGENCY: Postal Service™.

ACTION: Notice.

SUMMARY: The Postal Service hereby provides notice that it has filed a request with the Postal Regulatory Commission to transfer Inbound Surface Parcel Post (at UPU rates) from the market-dominant product list to the competitive product list.

DATES: Effective date: July 2, 2014.

FOR FURTHER INFORMATION CONTACT: Caroline Brownlie, 202-268-3010.

SUPPLEMENTARY INFORMATION: On June 25, 2014, the United States Postal Service® filed with the Postal Regulatory Commission a Request of the United States Postal Service to transfer Inbound Surface Parcel Post (at UPU rates) from the Mail Classification Schedule's Market-Dominant Product List to its Competitive Product List, pursuant to 39 U.S.C. 3642. Documents pertinent to this request are available at http://www.prc.gov, Docket No. MC2014-28.

Stanley F. Mires,
Attorney, Legal Policy & Legislative Advice.

[FR Doc. 2014-15540 Filed 7-1-14; 8:45 am]

BILLING CODE 7710-12-P